DEPARTMENT OF HEALTH AND HUMAN SERVICES

Centers for Disease Control and Prevention

[60Day-25-1365; Docket No. CDC-2024-0099]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled Performance Monitoring of CDC's Core State Injury Prevention Program (SIPP). The goal of Core SIPP is to strengthen the awardee's injury prevention programs and policies and demonstrate impact in the reduction of injury-related morbidity and mortality.

DATES: CDC must receive written comments on or before February 3, 2025.

ADDRESSES: You may submit comments, identified by Docket No. CDC-2024-0099 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Performance Monitoring of CDC's Core State Injury Prevention Program (SIPP) (OMB Control No. 0920-1365, Exp. 7/31/2025)—Revision—National Center for Injury Prevention and Control (NCIPC), Centers for Disease Control and Prevention (CDC).

Background and Brief Description

This is a Revision request for the currently approved Performance Monitoring of CDC's Core State Injury Prevention Program (SIPP) (OMB Control No. 0920-1369, Exp. Date 7/31/2025). Approval is requested for an additional three years to continue collecting information from awardees funded under the Core SIPP cooperative agreement. Data collected up until this point has been used for monitoring the impact of Core SIPP.

Monitoring the impact of population-based strategies and identifying new insights and innovative solutions to health problems are two of the noted public health activities that all public health systems should undertake. For NCIPC, these objectives cannot be satisfied without the systematic collection of data and information from state health departments. The information collection will enable the accurate, reliable, uniform, and timely submission to NCIPC of each awardee's progress report and injury indicators, including strategies and performance measures. The information collection plan proposed here will also generate a variety of routine and customizable reports. State-specific reports will allow each awardee to summarize activities and progress towards meeting strategies and performance measure targets related to the reduction and prevention of unintentional and intentional injuries. NCIPC will also have the capacity to generate reports that describe activities and health outcomes across multiple recipients, which will enable better reporting of trends and provision of technical assistance through linking partners across state health departments and collaborating divisions within CDC.

The information collection and reporting requirements have been carefully designed to align with and support the specific goals and outcomes outlined in the Core SIPP cooperative agreement. The overarching goal of Core SIPP is to strengthen the awardee's injury prevention programs and policies and demonstrate impact in the reduction of injury-related morbidity and mortality. Although the data are limited to the 26 recipients of the Core SIPP NOFO, the results can be generalizable and inform injury prevention work. Moreover, it is steadfastly asserted that the results of the data collection are vital to ensuring the Core SIPPs efficient management. Results will not only allow NCIPC staff to provide data-driven technical assistance to recipients, but also to assess patterns across other NCIPC injury prevention programs such as, Prescription Drug Overdose Prevention for States and the Injury Control Research Centers. In addition, the data collection will inform the continuous quality improvement process and allow NCIPC staff to make mid-course corrections and describe the impact on health outcomes. The information collection procedures allow NCIPC to respond to inquiries from the HHS, the White House, Congress and other stakeholders about program activities and their impact; as well as, work towards CDCs overarching mission to protect America from health, safety and security threats, both foreign and in the U.S.

Program recipients use the information collected to manage and coordinate their activities and to improve their efforts to prevent and control injuries. The Partners' Portal allows recipients to fulfill their annual reporting obligations efficiently by employing user-friendly, easily accessible web-based instruments to collect necessary information for both progress reports and continuation applications including work plans. This approach enables recipients to save pertinent information from one reporting period to the next and reduces the administrative burden on the annual continuation application and the performance monitoring process. Awardee program staff are able to review the completeness of data needed to generate required reports, enter basic summary data for reports annually, and finalize and save required reports for upload into other reporting systems as required.

CDC requests OMB approval for an estimated 286 annual burden hours. There are no costs to respondents other than their time to participate.

Estimated Annualized Burden Hours
Type of respondents | Form name | Number of respondents | Number of responses per respondent | Average burden per response (in hours) | Total burden (in hours)
Core SIPP Program Recipients | Annual Progress Report | 26 | 1 | 11 | 286
Total |  |  |  |  | 286

Jeffrey M. Zirger,
Lead, Information Collection Review Office, Office of Public Health Ethics and Regulations, Office of Science, Centers for Disease Control and Prevention.

[FR Doc. 2024-28323 Filed 12-2-24; 8:45 am]

BILLING CODE 4163-18-P